DEPARTMENT OF THE TREASURY

Internal Revenue Service

Quarterly Publication of Individuals, Who Have Chosen To Expatriate

AGENCY: Internal Revenue Service (IRS), Treasury.

ACTION: Notice.

This notice is provided in accordance with IRC section 6039G of the Health Insurance Portability and Accountability Act (HIPAA) of 1996, as amended. This listing contains the name of each individual losing United States citizenship (within the meaning of section 877(a) or 877A) with respect to whom the Secretary received information during the quarter ending September 30, 2022. For purposes of this listing, long-term residents, as defined in section 877(e)(2), are treated as if they were citizens of the United States who lost citizenship.

Last name | First name | Middle name/initials
ABRAHMS | PAUL | C.
ABROMAITIS | JONAS JOHN
ADOLFSSON | JESSICA | CAROL
AGRATI | PAOLA
AHLUND | MIKAEL | C.
AHMED | FAIZ
AKINS | FIONA | MARY
AL HAJRI | GHANEM | JABER GHASSAB
AL MUKHTAR | RASHA | A.
ALEXANDER | GAIUS | MAXIMILIAN ST JOHN
ALEXANDER | MICHAEL | DAVID
ALLEN | ALEXANDER | RICHARD
ALTHAKAFI | SHEIKHA | M.
AMANO | TAKAYUKI
AMIRI | NOHAMMD | RAFAEL
AMOEDO CASQUEIRO | NOELIA
ANDERSON | DAVID | J.
ANDERSON | KATIE | JEAN
ANEMA | WALTER | JULIUS
ANGEHRN | ISABELLE | SABINE
ARAKAWA | KAZUYA
ARAKI | HIRONORI
ARBOLEDA | AMADIO | ANTONIO
ARNOLD | ROBERT | FOX
ASHRAFI | ALI
ATKINS | MATTHEW | A.
AVRILLON JIM | SYLVIE
BAKER | YOKO | SASANO
BAKKER | KEES
BALDARI | HILARY | M.
BALTUS | ALEX | SIMON
BALZER | NOAH | DANIEL
BARKLEY | JANET | LYNN
BARRETT | JOSEPH | SAMUEL
BARTELINGS | CHERYL | JANITA
BASELGA | NICOLAS | ALBERTO
BAUME | CHRISTINE | MONIKA
BEAGLEY | NIGEL | ROBERT
BECERRA VALDIVIA | LORENA | ALEJANDRA
BEIJLEVELD | FREDERICK | JOHN
BELL | SUSAN | KOCHEVAR
BELL | THOMAS | WILLIAM WESLEY
BENJAMIN | LORELEI | DEL
BENTHUYSEN | JESSICA | ANN
BERAUD | JACQUES | DANIEL BERNARD
BEWERNICK | RYOKO
BIBOLLET | JULIEN
BIEHN | TRISTAN | P.
BINT | ANDREW | K.
BISWAS | RAJIT
BJORN | RYAN | LANE
BLACKWELL | NINA | MARGUERITE
BLACKWELL | PETER | ANTONY
BLACKWELL | ROBERT | OSWALD
BLAKE | LOGAN | R.
BLIN | STEPHANE | JEAN MAURICE
BLOCH | ERIC
BLUM | SEBASTIAN
BODEN | HILARY | ALICE
BOGGS | JOSHUA | DAVID
BONADURER | GAIN | RETO
BONGAERTS | BIANCA | ELINE
BOOK | GARRET | RICHARD
BOTHA | MARK | LEE
BOTOSAN | JOHN
BOUKAMP | HESTER | JOHANNA
BOY | STACEY-LEE
BRADLEY | CYNTHIA | JANE
BRADY | SPENCER | JOSEPH
BREST | JEREMY | LEONARD
BREWER | GARY | ARTHUR
BREWER | JONATHAN | MICHAEL
BRICKMAN | YARDENAH | GAIL
BRIER | KENNETH | JOHN
BROTHERS | KAREN | M.
BROWN | ADAM | NICHOLAS
BROWN | ALEXANDRA
BROWN | AMANDA | ASHLIE
BROWN-FROSSARD | ROBIN | LEE
BRUIN | MARIE-LOUISE
BRUINSMA | PIET | H.
BUCHBERGER | JENNIFER | MARGARET
BUETLER | GABRIEL
BULLARD | JACQUELINE | MARIE
BUNTEN | HELEN | MARGARET
BURCH JR | JAMES | MARVIN
BURISCHEK | FERDINAND | WOLFGANG
BUS | ALBERDINA | HENDRIKA
BUSH | SANDY | JANE
BUTLER BUETLER-DELPHA | THERESA | M.
CALLINICOS | ANNEMARIE | C.
CALLOW | MARK | SIMON
CAMPAGNA | FABIO
CAO | NAIQU | QIU
CAPLING | BECKY | LOUISE
CARRASQUERO B | ALBERO | JOSE
CARVEY | JASON | CHARLES
CASLICK | ASHLEY | TAYLOR
CASTILLO | PETER | ANDREW
CAVAGNARO | VANESSA | LYNNE
CHAN | BRYAN | WEI-HEUNG
CHAO | SIMONE | CHI MA
CHAPMAN | ROBERT | ALBERT
CHARBIN | ANASTASIA | MARIE
CHARBIN | CEDRIC | PAUL
CHEDRAWY | EDGAR | G.
CHEN | TERENCE | B. N.
CHEN | WEI-MIN
CHENG | HSIU-FEN
CHEUK | HEIDE | OIL GEI
CHIANG | HARVEY | YI-MIN
CHIEW | JUN | LEONG
CHOI | JIN | HEE
CHOI | YUEN | CHING
CHRUSCH | ASHLEY | D.
CHU | WEI-PENG
CLARE | DENNIS | BARRY
CLARK | JONATHAN | CAMERON
CLARK | ROBIN | JEAN
CLARKE | MELISANDE | MARION
CLEMENT | CHRISTINE | GEORGIA
COCHRANE | JOHN | MICHAEL
COHEN | NICHOLAS | NORTHBROOK
COHEN | RONEN
COIL | KAREN | LEANNE
COLLINS | REED
COMBET | VIRGINIE | CHARLOTTE
CONITZER | RUBEN
CONWAY | DON | JOSEPH
COOK | DAVID
COTE | CHARLES | MARC
COUCH | SANDER | SEBASTIAN
COWEN | CHARLES | EDWARD HUXLLEY
CRAVEN | LUCIA
CRAWSHAW | SALLY | MARIE GERALDINE
CRESSWELL | DARYL | JACQUES
CRONHEIM | ALEXANDER | PAUL ALBERT
CROSS | SEAN | MICHAEL
CROWDIS | MARJORIE
CUNNINGHAM | JOSHUA | HAYDEN
DA SILVA | FELIPE | DO NASCIMENTO VIEI
DANIELS | MICHAEL
DANILCZUK | ANDRZEJ
DARLING | PATRICK | JOSEPH
DAVID | JOHNATHAN
DAVIDSON | FREDERICK | REDMOND
DAVIDSON | JOHANNA | ELISABETH
DAVIES | STEPHEN
DE BELAY | PAUL | BERNARD
DE LU | MAXWELL | JOSEPH
DE VEER | RICHARD
DE VRIES | ROY | ARTHUR ERWIN
DEACON | ALAN | JOHN
DEGRAFF | BARBARA | HARRIETT
DELL | GARY | IAN
DITTMANN | PETER | FRANCIS
DODGE | ANDREW | JAMES
DONNAY | FRANCE | ANNE
DOUGHTY | PAUL | EDWARD
DOUGLAS | SARAH | ELIZABETH
DUBE | CHRISTINE | LOUISE
DUCLOS | LOLA
DUGGAN | PETER | WILLIAM
DUNCAN | BRITTA
DUNSFORD | ANNE
DURANTON | GAELLE | GERMAINE
ECKERT | MICHAEL | PATRICK
EDGEWORTH | ROBERT | MAYER
EDWARDS | NICOLA | LOUISE
EICHEL | ERNST | PHILIP
EICHEL | HELEN | MARIE
EKBLOM | JONAS | GORAN
ELIAS | JOCELYN | CORNELIA
ENGLISH | DENNIS-JOHN | HENRICUS
ENRICH ROBERT | MARIA | C.
ENSSLIN | HEATHER | MAE
ERNE | JEAN-CLAUDE
ESTEGASSY | GUILLAUME | ARNAUD
EVANS | LYNDA | BARBARA
EVAS | SUZANNE | LEIGH
FAN | ZHENHONG
FARLOW | CHRISTINE | JUNE
FIORE | ADAM | MCCREIGHT
FISCHER | ERICH | WILHELM
FISHER | SALLY | A.
FLANAGAN | DOROTHY | LYNNE
FLOYD | JACQUELINE | MARIE
FOCKETIJN | KELLY | ELIZABETH
FOK | CHARLES | CHAK LEUK
FONG | CLARENCE | KING YUE
FORD | ERIK | EUGENE
FRANCIS-BRUCE | RICHARD | LESLIE
FRAUSING | MICHAEL
FREEGARD | ANNETTE | LOIS
FREGNI | MARCO
FRIEND | ANDREW | JOHN
FUKAO | MOMOE
FUKAO | TAKESHI
FUKUOKA | NAOKO
FUKUOKA | NORITAKA
FUNT | MALCOLM | BRIAN
FURAN | GREGORY | ALLEN
GALBREATH | JEREMY | THOMAS
GALGUT | RUTH | SARAH
GARDNER | HARRIET | INDIA
GARNER | GRAHAM | L.
GARRETT | FLOYD | BRUCE
GARRETT | JAMIE | LYN
GAUDINO | SIOBHAN | JULIA
GEERDINK | KEVIN | TOM
GELLNER | NOAH | JOHN
GERBIER | BENJAMIN | O.
GHAEMAGHAMY | JEFF | SCOTT
GHYSELS | CHRISTINE | ANN
GIESEN | LOUISE | MARIE
GILL | AMYROSE | JOY MCCUE
GODDARD | HELEN | BARBARA
GODDARD | PETER
GOEDEGEBUURE | DENNIS | A.
GOEDEGEBUURE-BROWN | FIONA | G.
GOMEZ JR | MARCELO
GONZALEZ | DIEGO
GOODMAN | AMANDA
GORDIS | ALEXANDER | PHILIP
GORDIS | BEATRICE | MCCLAM
GOTOH | SHIGEKO
GOVINDASAMY | VISVANATHAMOORTHY
GRAFF | RILEY | BRADSHAW
GREEN | KRISTINA | VANESSA
GREGIORE | WAYNE | ALLAN
GREGORY | JAYNE | LOUISE
GREGORY | JOHN
GRENIER | ANITA
GUDEWILL | FELICIA | DEWEY
GUO | ZHANHE
GUSTAFSON | GRETHEN | M.
GUTIERREZ GARCIA | GLORIA | IRMA
GWILYM | TOMMY | CARADOC
GYGLI | DUSTIN | JAMES
HACK | YVONNE | DOROTHY BEWICK
HAGEN | ONELLA | KILAGI
HALATA | TANYA | CECILIA
HALL | DARREN | JOHN
HALLIWELL | HANAKO
HALT | FREDERIC | LIONEL
HALVERSON | ELSPETH | MARGARET
HAMMOND | CHAUNCEY | CRAIG
HAN | JINSOO
HANES | CARISSA | ANN
HANNEY | PATRICIA
HANSON | SABINE
HARKNESS | JOHN | NEWELL
HARMON | COLBY | ROGNIER
HARPER-SMITH | JANICE | FAY
HARRIS | GLENNA | CATHERINE.
HARRIS | MARTHA | LYNN
HARVIE | PATRICIA | LEA
HASSANEIN | MEDHAT | SEIFALLA
HASSANEIN | SEIFALLA | MOHAMED
HATANO | EMI
HATZIS | HARRY HARRISON | A.
HAUPTLI | DANIEL | MANUEL
HAYAKAWA | MEGUMI
HAYAKAWA | TAKEHIKO
HEDSTROM | CHERISH | ELAINE
HEIJNING | STEPHANIE | ANNE
HELGESEN | MARC | ERBECK
HENDERSON | LISA
HERBERT | HENRY | JOHN
HIBIKI | KANAKO
HIBIKI | TAKASHI
HILL | PAUL | MATTHEW
HO | SING-JU
HO | SUZANNA | OI-PENG
HOEKSEMA | ERICK | RICHARD
HOEKSTRA | JEROEN | PIETER
HOLLINGER | MICHAEL | PRADOS
HONG | JONGWON
HSIA | SOPHIE | EMMANUELLE SU AN
HSU | CHUNG-CHIA
HUANG | AIHUA
HUANG | CHRISTINE
HUANG | JIAN
HUEBNER | ADA | GABRIELA
HUEG | ALAN | KIM
HUI | PAK | KONG
HUIJNEN | JOELLE
HUNZIKER | ROBERT | L.
HUR | CHRISTOPHER
HUR | MI | YAE
HUTCHINS | DANA | LEE
HUYBENS | JOSEPH | RAFFAELLO
ICHIKAWA | KATSUHIKO
ICHIKAWA | KUMIKO
IMAGAWA | KENJI
INGEN-HOUSZ | HYLKIA | ANNA
INGRAM | AMY | JOYCE
ISHIHARA | CHISA
JACKA | SUSAN | FRANCES
JACKSON | JAMES | DOUGLAS
JAEGER | KLAUS | R.
JAINE | MARK | ANDREW
JAMES | GILLIAN | BARBARA
JEAN | PATRICK | WILLIAM DANIEL
JEI | ANN | EUNHE
JENSSEN | HILDE | N.
JEON | JUN | HO
JOHNSON | THOMAS | JAMES JOSEPH
JORY | IAN | PHILIP DUNSTAN
JORY | JOSEPHINE | CLARE
JOURNET | DAVID | FRANCOIS
JUDGE | MADELEINE | MINORE
KAINE | KENNETH | GEORGE
KAJIWARA | YOSHIAKI
KAMLER | BARBARA | RUTH
KAMP | DONALD | J.
KARREN | JOSEPH | CHARLES NICKLAUS
KATO | EIJI
KEAN | JANICE | MURIEL
KEENAN | BARBARA | DIANE
KEHELA | KAREN | JEAN
KELLY | JUSTIN | JOHN
KELLY | SARAH | ROSE
KEMNA | BRAD | MAKOTO
KERTTU | NILS | ERIK MIKAEL
KERTU | JELIZAVETA
KIM | CHANG | HON
KIM | JINILL
KIM | JONG | HEON
KIM | MIN | KYUNG
KIM | SEUNG | MIN
KIMURA | YURIKO
KING | MASAKO | SUGIMOTO
KIRK | MORGAN | HAILEY
KIRK | PETER | JEROME
KITTSON | ELLEN | MAE
KNOTTENBELT | FEMKE | LOUISE
KNUDSEN | KAJA | SKALNES
KODAMA | YUJI
KODERA | TSUYOSHI
KORTUM | JAMES | DOUGLAS
KREHAN | ASTRID | JOHANNA
KRICHBAUM | EVERETT | VAN
KROUMOVA | STELA | IVANOVA
KUMAR | CYNTHIA | J.
KUMAUCHI | MASATO
KUNG | JAMES | JEN
KUNZE-BUSCH | MARTINA | CHRISTINE
KURAHASHI | YURIKO
KUROIWA | SHINOBU
KUROIWA | YOSHIMI
KUROKI | MACHIKO
KURTZ | MOEGI
KUTZNER | SUSANNE
KWIATKOWSKI | WILLIAM | H.
KYLSTRA | MAAIKE | TAUN
LACAL | VIRGINIA
LAI | WENDY
LAM | DENISE | LING FUNG
LAMBKIN | GRAHAM | MARK
LANGLOIS | WILLIAM | JAMES
LARSEN | RAINER | ELLIOTT
LARSON | HIROE | OTSUKA
LAVAU | CATHERINE | PRAXEDE
LAZZER | BARRY | NEIL
LEE | CHIEN-YI
LEE | FRANCES | SHI HUI.
LEE | HO | SONG
LEE | JONATHAN
LEE | MASON | SHAO HONG
LEE | SEUNG | HYUNG.
LEE | YONG | SUN
LEMANN | JACOB | MOSES
LESLIE | PAULA | M.
LEVISON | JAKOB | RANK
LEVY | BARBARA | J.
LI | YONGCHUAN
LIE | ANNE | CHRISTINE
LIE | THOMAS | SCOTT
LIEOU | NICHOLAS
LILLEY | KAREN | ANNE
LILLEY | RUSSELL | DAVID
LIM | HYUNYANG | KIM
LIN | KAREN | RUBY
LIN | TA | CHUN
LISITSINA | NADEZHDA
LITTAUR | MICHAEL
LIU | CHEN-YIN | JESSIE
LIU | FRANK | KENG-HUNG
LIU | JIE
LIU | NA
LIU | YAOXUN
LIU | ZHIMIN
LLULL | CARLOS | JOSE
LOHACHITKUL | SUPOL
LOO | SWEE-CHIN
LOUIE | DARREN | GLEN
LOWBEER-LEWIS | NATHANIEL | NICHOLAS
LU | I-LING
LUNDGREN | ANDERS | NILS ERIK
LYNCH | JANICE | PAULETTE
MA | JIE
MACAULAY | DUNCAN | D.
MACDONALD | MARGARET
MACEWAN | ELWOOD | ARTHUR
MACHUCA LUQUE | MARIA | DELORES
MAI | GAWIN
MALIBORSKI | RAFAL
MAMAIS | JOHN | DAVIS
MANSUR | DREW | TYLER
MARSTON | MARY | ANNE
MARTINDALE | KENNETH | T.
MARYNOWSKI | THEODORE | JOHN
MASSARENTI | SIMONE | ELDRIDGE
MATHURA | PREEMCHAND
MATTHEWS | FELIX | HECTOR
MATTHEWS | PAUL | RICHARD
MATTSON | DAVID | LEE
MAYER | DAGMAR | R.
MAYORGA | DIANE | MICHELLE
MCCALL | PHYLLIS | JEAN
MCCARTHY | CHRISTINE | M.
MCCGWIRE | PATRICK | CONOR
MCCRACKEN | SUSAN | C.
MCCREADY | WENDY | A.
MCCULLOCH | CRAIG | SHAW
MCELVOGUE | GREGOR | IAIN
MCFARLANE | TURI | ROBIN
MCGRATH | CLARE | M.
MCGREGOR | ROBIN | DE ETTE
MCINTOSH | ALEXANDRA | JANE
MCNEIL | ALISON
MCPHERSON | TASHI | WONG SHEE
MEADUS | GREGORY | K.
MEINCKE CAMBEROS | MARIA | PATRICIA
MERCURIO | MARIA | ANN
MILNER | DAPHNE | LEA
MIURA | TOMOYO
MOE | STEVEN | HAROLD
MOK | KATHY
MORI | NAOKI
MORREY | MICHAEL | DAVID
MORREY | SARAH | ANNE
MORSE | VALERIE
MOSCATO | SAYOKO | I.
MOSSMAN | CAROL | MAXON
MOUILLIER | THOMAS
MURPHY | NICOLE | LEANNE
MURRAY | PETER | ALEXANDER SCOTT
MUSHENKO | MICHAEL | JAMES
NABAVI | MANI
NAGATA | MISAKO
NAKAGAWA | ASUKA | JENNY
NAKAI | EMILY
NAKAMURA | TOMOKO
NAKAMURA | YUKIKO
NEEDHAM | DIONNE | MARY
NEHRING | TYLER | STANLEY
NEILSON | REBECCA | MARIE
NEUBRAND | MARKUS
NEWLIN | ALBERT | ALLEN
NG | WEI CHOON
NGUYEN | ANTHONY | THUONG KHIEM
NICCOLLS | JANE
NICCOLLS | PHILIP | LLOYD
NISHIMURA | AIMI | ELIZABETH AKIKO
NOJIMA | SADAYOSHI
NUSANTORO | CYNTHIA | H.
OBRIEN DRIESSEN | ELIZABETH | LOUISE
OBWEGESER | KEVIN | NORMAN
OKADA | JUNICHI
OKAMURA | DAISUKE
OLIPHANT | BRIAN | ROBERT
OLVERA | JUAN | ANTONIO
OMI | AYANO
OSADA | KENICHI
OSULLIVAN | CORNELIUS | BENEDICT
PALENSTEIN | OLIVIA
PALMER | AMBER | ORION
PALMER | ERIN | OLIVER
PAMEIJER | SABRINA | ROANNE MARITIEN
PANTER | STEPHANIE | SUE
PANTER | STEPHEN | NEIL
PARISON | BIANCA | MARIE
PARK | CHAN | HEE
PARK | CHEOL | YONG
PARK | JAE | HOON
PARK | JUNYOUNG
PARK | MI | HYUN
PATEL | SAHIR
PATHAK | SAURABH | MANOHAR
PATTERSON | KEVIN | CARL
PEDERSEN | SARAH | JANE
PERDRIZET | KIRSTEN | A.
PEREIRA | ERIC | SHELDON
PERLMAN | JEFFREY | CHAIM
PERNBLAD | NICKLAS | DALTON
PERNG | JANE
PERRON | JENNY | MARIE
PERRON | MARC | HENRI
PETER | CHERYL | DAWN
PETERS | DOERTE
PETERSON | NICHOLAS | MATTHEW
PETERSON | SEBASTIEN | STEVEN
PHANG | MONICA | LI-LING
PHIELIX | TESS | ANNE
PINTUSOONTORN | FLORA
PISANI | DIANA | JEAN
PITCHER | MICHAEL | REED
PITTS | GREENFIELD | SPENCELEY
POLLOCK | BLAINE | DAVID
POMERANTZ | BENJAMIN | GERRIT
PONG | JEANIE
PORTMANN | THOMAS
POWERS | TOMMY | WAYNE
POZZOBON | SUSAN | ELIZABETH
PRATLEY | NICHOLAS | JOHN
PRESTON | JULIE | ANNA
PRINCE | STEPHANE | JEAN CHRISTOPHE
PRIOR | ROBIN | STEPHEN
PROCUTA | ELENA | MARGARITA
PROVOOST | ANNEMARIE
PUETZ | SIMONE
QIU | SHIXUN
QUATTROCLOCCHI | JENNIFER | ANNE
QUERENGESSER | BLANCHE | MARLENE
QUERENGESSER | WILLIAM | LEROY
QUINN | STEVEN | MARK
QUINT | ERIC | NICOLAAS JACQUES O
RADER | DANA | SUE
REDA | MOHAMMED | ASSER
REEVE | JOHN | EDWARD CHRISTEN
REGAUD | CHRISTIAN | OLIVIER
RESTREPO ECHEVERRIA | LINA | MARIA
REUSCH | HELEN | ANN
REYNOLDS | SHERRIE | DENISE
REYNOLDS | SUSAN | E.
RHODES | RUBIN | PETER VINCENT JAMES
RICHARDS | JOSEPHINE | ALVINA
RICKMANN | CHRISTINE | GISELA
RIGAS | MARIE-MADELEINE
RIGGERS | ANJA
ROBERTSON | JOHN | SCOTT
ROBERTSON | LESLIE | CHRISTINE
ROBINSON | DARIA | MICHELE
ROHRBACK | JENEAL | LINN
ROJAS | VALENTINA
ROM | ELISABETH | MARIA
ROM | FRANZ | WERNER
ROMER | FELICIA
ROTH | VICTOR | ALBAN KARL
ROWE | STEPHEN | BOLITHO
RUBIN | ZACHARY
RUEEDE | BERNADETTE | CATHERINE
RUOL | MICHELE
SAARY | LINDA | ERICA
SACHS | HOWARD | CRAIG
SADANAND | SIDDHARTH
SAKAMOTO | WAKAKO
SAKAMOTO-TAYLOR | TOMOKO
SALCE | YASMIN | PUI
SALUSBURY | PETER | HOWE
SALVADOR | AIMEE | LYN
SANCHEZ HERRERA | EZEQUIEL
SANDERS | JONATHAN | M.
SANDERSON | JANET | ELAINE BOOTH
SASSEVILLE | JOSEE | MARTINE
SCHENKENFELDER | YOSHIKO
SCHINAZI | ILAN | ERIC
SCHMEDER | NATICA | TANYA
SCURR | JOHN | LEWIS
SCURRAH-EHRHART | CECILIA | ANA
SEYBERTH | JAN | OLIVER
SHAH | AMINA | SAYYADA
SHEN | BIN
SHIN | JIWON
SICARD | ALAIN | MARIUS
SIEBERT | ANNA | MARIE
SIMON | DOMINIQUE | LEONARD
SINGLETON | ANIQUE | DENISE LYNETTE
SIPKO | OLGA
SIRACUSA | JOSEPH | MARCUS
SLAVOV | GEORGE | BOJIN
SMITH | BRIAN | PATRICK
SMITH | ROBERT | DEAN
SMITH | SACHIKO
SMITHIE | MICHAEL | WILLIAM ANTHONY
SMOOLE | DONNA | LEE
SNOW | IAN | NIELS
SOERENSEN | JEANETTE | ELFVING
SOLLMANN | RAHEL
SOORTY | ANUM | SHAHID
SOVINE | RHIAIN | KRISTA
SPARACIO | MARY
SPATAFORE | JAMES | DAVID
SPEER | JORDAN | ELIZABETH
SPENCE | JUDITH | A.
ST JOHN | ANN | FENWICK
STADNYK | CRAIG | WALTER BASHAK
STAM | MAILE | ALANA
STANLEY | STEPHEN | NEIL
STANLEY | TONY | JONATHAN
STEPHENS | ROBERT | LEE
STERN | CAROLINE | NICOLE
STEWART | ANDREW | IAN
STILKENBOOM | MARK | DANIEL SOREN
STONE | PAULA | EVELYN
STORK | MAARTEN | A.
STOUT | RANDALL | EDWARD
STRAUSS | CRISTINA | ELISABETH
STRAUSS | MELANIE
STRONG | WILLIAM | RICHARD
SUGIURA | MOTOYUKI
SUGIURA | SATOKO
SULLIVAN | WAYNE | RAOUL
SULLIVAN | LUCILE
SUNG | SHIWOO
SUSSER | BERNARD
SUZUKI | SEIGO
SWIFT | SELINA | JANE
SZE YAN LAU | ALLISON
TAK | ANNE-LOTTE
TAKAHASHI | MJIKA
TAKANO | YUKIYA
TAKASHIMA | TEIKO
TAKEDA | FUMIKO
TAKEDA | MASAAKI
TAKEUCHI | TAKAYO
TALLING SMITH | AGNES | ULRIKA
TALLING SMITH | SIMON | DAVID
TANAKA | YUKA
TANG | YUANMIN
TANNIRANDORN | PUNTRIKA
TATLOCK | JOE | MICHAEL
TAYLOR | ETHEL | ROSE
TAYLOR | LYNN | ELIZABETH
TAYLOR | MARK | ANTHONY
TAYLOR BOARDMANN | CASEY | SARAH
TEMPLE | TREVOR
TERMIJTELEN | FLEUR | WILLEMIJN
THEVES | MATHILDE | SOPHIE
THIBAULT | FRANCOIS | JEAN MAURICE
THOMAS | MIA | LEE
THOMPSON | SIMON | E.
THYSSEN | HEIDI | A.
THYSSEN | JUERGEN | HANNS
TODD | DIANE | LOUISE
TOHAMA | FUSAKO
TOHAMA | TAKESHI
TOKUSUMI | TSUYOSHI
TOKUSUMI | YUMIKO
TOMIDA | YOSHIHARU
TOMIDA | YUMIKO
TOYAMA | ISAO
TRIAY | JESSICA | MEGAN
TSUTSUMI | KAZUKI
TSUTSUMI | TOKIKO
TULLOH | DONNA | MARIE
TURCHET | GIOVANNI
UBOLDI | CYRIL | HENRI EMILE
UDAGAWA | SAWA
UDAGAWA | SATOSHI
ULLRICH | JILL | ANN
UMEBAYASHI | KOZUE
UMEBAYASHI | MITSUNORI
USUI | MARIKO
VALSECCHI | ISABELLA | MARIA
VAN DER WAL | CH.RISTINA | S.
VAN DIJK | ERIC
VAN DRUMPT | SUSANNE | CORNELIA ELAINE
VAN HELLEPUTTE | EMILIE | MECHTILDE HENDRIQUE
VAN MEEUWEN | LYDIA | JOHANNA PAULINA
VAN TEYLINGEN | GERHARD | ARTHUR
VAN TEYLINGEN | HANNAH
VAN TEYLINGEN | JENNIFER | GALE
VAN VELZEN | JOHANNA | CATHARINA
VANCOLLIE | GUY | MARIE FRANCOIS
VILLEDROUIN | REGIS | MARCEL
VILLINGER | VERONICA
VINK | ANDREW | WILLY
VITACCO | JACQUELINE | ANN
VOLDOIRE | ALINE | CECILE
VOLLERING | STEFANIE | PAULINE MARIE
VON BIEL | WIHELM | ANDREAS
VORONOFF | GEORGE
VORONOFF | KERRY | ANNE
VOS | ADRIAN | WILLEM FLORIS
WADE | STEVEN | WILLIAM
WANG | DANDAN
WANG | TONGYAN
WANG | XIAOMING
WARD | CLAIRE | LOUISE
WARITANI | NANAKO
WATERS | PAUL | MARTIN
WATKINS | SARAH | JANE
WEGENER | JUERGEN | T.
WEISHEIT | MATTHIAS | HERMANN
WELCH | BRETT | RONALD
WELLS | TODD | IAN
WEN | TAO | CHIH
WESBONK | FELIPE | ALEXANDER
WEYERS | ALBERT
WHEELER | PHILIPPA | MARY HARRIETT
WICHMANN | CATHERINE | KELLY
WIEDEMANN | WIEBKE
WIEGMAN | MARTIN | DANIEL
WIGET—BLOCH | IRENE | HELENE
WIGHT | SCOTT | B.
WILLIAMS | FOSTER | CHARLES
WILLIAMSON | THOMAS | D.
WILSON | WAYNE | C.
WINE | AARON | MITCHELL
WINGATE | GREGORY | DEARBORN
WINTER | KEVIN | W.
WIRTH | RACHEL | ELIZABETH
WITTE | DANIELA
WOLF | AMANDA | MARIE
WOO | WEI-LI
WOOD | CHRISTOPHER | JAMES
WOODS | DAVID | CHARLES
WU | AN-FUNG
WU | ANNE
WU | CHIEN-HUNG
WU | JING
WYLER | LAURE | MURIEL
XIAO | HUIYU
XIAO | PENG
YAGI | KIMI
YAGI | MOTOKO
YAMAGUCHI | KIMIAKI
YAMANE | KEIKO
YAMASHITA | TETSUJI
YANO | SEIICHI
YANO | YOKO
YAP | AURORA | W. M.
YEUNG | DEBORAH | MEW LING
YIN | XIAMING
YOO | CHEOL | HYO
YOSHINO | JUN
YOUNG | GEORGE | ROBERT TODD
YU | ALAN | ALBERT
YUAN | LIN
ZAIDEL | GRAYSON | A.
ZENG | EDDY | YONGPING
ZHANG | CHENYAN
ZHOU | JINGFEN
ZHU | JINGYAN
ZIEGLER | JOSHUA | MICHAEL
ZOCHODNE | JULIA | KRISTEN
ZWAHLEN | MICHAEL | JOHN

Dated: October 20, 2022.
Steven B. Levine,
Manager, Team 1940, CSDC—Compliance Support, Development & Communications, LB&I:WEIIC:IIC:T4.

[FR Doc. 2022-23233 Filed 10-25-22; 8:45 am]

BILLING CODE 4830-01-P